DEPARTMENT OF HEALTH AND HUMAN SERVICES

Food and Drug Administration

[Docket No. FDA-2011-N-0827]

Agency Information Collection Activities; Proposed Collection; Comment Request; Revisions to Labeling Requirements for Blood and Blood Components, Including Source Plasma; Correction

AGENCY: Food and Drug Administration, HHS.

ACTION: Notice; correction and extension of comment period.

SUMMARY: The Food and Drug Administration (FDA) is correcting a notice that appeared in the Federal Register of December 30, 2011. In the Federal Register of December 30, 2011, FDA published a notice entitled “Agency Information Collection Activities; Proposed Collection; Comment Request; Revisions to Labeling Requirements for Blood and Blood Components, Including Source Plasma,” which provided incorrect publication information regarding the availability of the final rule. This document corrects this error and extends the comment period. Elsewhere in this issue of the Federal Register, FDA is publishing a companion final rule correction notice.

FOR FURTHER INFORMATION CONTACT: Joyce Strong, Office of Policy, Food and Drug Administration, 10903 New Hampshire Ave., Bldg. 32, Rm. 3208, Silver Spring, MD 20993-0002, 301-796-9148.

SUPPLEMENTARY INFORMATION: In FR Doc. 2011-33555, appearing on page 82300 in the Federal Register of Friday, December 30, 2011 (76 FR 82300), the following corrections are made:

1. On page 82300, in the third column, in the DATES section, the submission date for comments should be corrected to “April 9, 2012”. We are extending the comment period from February 28, 2012, to 60 days after this correction notice publishes to allow the public sufficient time to comment.

2. On page 82301, in the first column, in the second full paragraph in the SUPPLEMENTARY INFORMATION section, the last sentence is corrected to read: “This document solicits comments on certain labeling requirements for blood and blood components, including Source Plasma, finalized as part of a rule FDA published on January 3, 2012, entitled ‘Revisions to Labeling Requirements for Blood and Blood Components, Including Source Plasma.'” We are making this change because the final rule inadvertently did not publish on December 30, 2011.

Dated: February 2, 2012.
Leslie Kux,
Acting Assistant Commissioner for Policy.

[FR Doc. 2012-2827 Filed 2-7-12; 8:45 am]

BILLING CODE 4160-01-P